ENVIRONMENTAL PROTECTION AGENCY

[ER-FRL-6696-4]

Environmental Impacts Statements; Notice of Availability

Responsible Agency: Office of Federal Activities, General Information (202) 564-7167 or http://www.epa.gov/compliance/nepa/.

Weekly receipt of Environmental Impact Statements Filed 02/18/2008 through 02/22/2008. Pursuant to 40 CFR 1506.9.

EIS No. 20080065, Final EIS, BLM, ID, Snake River Birds of Prey National Conservation Area, Resource Management Plan, Implementation, Ada, Canyon, Elmore, Owyhee Counties, ID, Wait Period Ends: 03/31/2008, Contact: Michael O'Donnell 208-384-3315.

EIS No. 20080066, Final EIS, BLM, ID, Fire, Fuels and Related Vegetation Management Direction Plan Amendment, Upper Snake River District (The District), Amending 12 Existing Land Use Plans, Several Counties, ID, Wait Period Ends: 03/31/2008, Contact: Terry Smith 208-478-6347.

EIS No. 20080067, Draft EIS, FHW, MI, Detroit River International Crossing Study, Propose Border Crossing System between the International Border Cities of Detroit, Michigan and Windsor, Ontario, Wayne County, MI, Comment Period Ends: 04/29/2008, Contact: David T. Williams 517-702-1820.

EIS No. 20080068, Draft EIS, NPS, SD, Minuteman Missile National Historic Site, General Management Plan, Implementation, Jackson and Pennington Counties, SD, Comment Period Ends: 04/29/2008, Contact: Mark Herberger 605-433-5552.

EIS No. 20080069, Final EIS, NPS, AZ, Saguaro National Park General Management Plan, Implementation, Rincon Mountain District and Tucson Mountain District, Pima County, AZ, Wait Period Ends: 03/31/2008, Contact: Mary McVeigh 303-969-2360.

EIS No. 20080070, Draft EIS, AFS, AZ, Warm Fire Recovery Project, Removal of Fire-Killed Trees Reforestation, Fuel Reduction and Road Reconstruction of Wildland Fire Burn Portion, Coconino County, AZ, Comment Period Ends: 04/14/2008, Contact: Lois Pfeffer 559-359-7023.

EIS No. 20080071, Draft EIS, NOA, 00, PROGRAMMATIC—Incorporation of the Revised Washington Shoreline Management Act Guidelines into the Federally Approved Washington Coastal Management Program, Amendment No. 4 Approval, Coastal Counties in WA, Comment Period Ends: 04/14/2008, Contact: Helen Farr 301-713-3155 Ext. 175.

EIS No. 20080072, Draft EIS, IBR, CO, Southern Delivery System Project, Water Supply Development, Execution of up to 40-year Contracts for Use of Fryingpan-Arkansas Project Facilities, Special Use Permit, El Paso County, CO, Comment Period Ends: 04/29/2008, Contact: Kara Lamb 970-663-3212.

EIS No. 20080073, Final EIS, FHW, IL, Prairie Parkway Study, Transportation System Improvement between I-80 and I-88, Widening IL-47 to 4 Lanes from I-80 to Caton Farm Road, Funding, U.S. Army COE Section 404, Grundy, Kendall and Kane Counties, IL , Wait Period Ends: 03/31/2008, Contact: Norman R. Stoner 217-492-4640.

Amended Notices

EIS No. 20010014, Draft EIS, AFS, AK, Withdrawn—Gravina Island Timber Sale, Implementation, Timber Harvest and Related Activities, Ketchikan-Misty Fiords Ranger District, Tongass National Forest, AK, Comment Period Ends: 06/26/2001, Contact: Susan Marthaller 907-225-2148. Revision of FR Published 01/19/2001: Officially Withdrawn by the Preparing Agency.

EIS No. 20040393, Final EIS, AFS, AK, Withdrawn—Gravina Island Timber Sale, Implementation, Timber Harvest and Related Activities, Ketchikan-Misty Fiords Ranger District, Tongass National Forest, AK, Wait Period Ends: 09/20/2004, Contact: Rob Reeck 907-228-4114. Revision of FR Published 08/20/2004: Officially Withdrawn by the Preparing Agency.

Dated: February 26, 2008.
Ken Mittelholtz,
Environmental Protection Specialist, Office of Federal Activities.

[FR Doc. E8-3917 Filed 2-28-08; 8:45 am]

BILLING CODE 6560-50-P